ENVIRONMENTAL PROTECTION AGENCY

[FRL-6953-5]

Agency Information Collection Activities: Proposed Collection; Comment Request; Minimum Monitoring Requirements for Direct and Indirect Discharging Mills in the Bleached Papergrade Kraft and Soda Subcategory and the Papergrade Sulfite Subcategory of the Pulp, Paper, and Paperboard Point Source Category

AGENCY: Environmental Protection Agency (EPA).

ACTION: Notice.

SUMMARY: In compliance with the Paperwork Reduction Act (44 U.S.C. 3501 et. seq.), this document announces that EPA is planning to submit the following proposed Information Collection Request (ICR) to the Office of Management and Budget (OMB): Minimum Monitoring Requirements for Direct and Indirect Discharging Mills in the Bleached Papergrade Kraft and Soda Subcategory and the Papergrade Sulfite Subcategory of the Pulp, Paper, and Paperboard Point Source Category, EPA ICR No. 1878.01. Before submitting the ICR to OMB for review and approval, EPA is soliciting comments on specific aspects of the proposed information collection as described below.

DATES: Comments must be submitted on or before May 18, 2001.

ADDRESSES: Send comments on this notice in triplicate to Mr. Mark Perez, Office of Water, Engineering and Analysis Division (4303), U.S. Environmental Protection Agency, 1200 Pennsylvania Avenue N.W., Washington, DC 20460. In addition to submitting hard copies of the comments, the public may also send comments via e-mail to: perez.mark@epa.gov. Copies of the draft information collection request are available at http://www.epa.gov/OST/pulppaper or by contacting Mr. Perez.

FOR FURTHER INFORMATION CONTACT: Mr. Mark Perez by telephone at (202) 260-2275, by facsimile at (202) 260-7185, or by e-mail at perez.mark@epa.gov.

SUPPLEMENTARY INFORMATION: Affected entities: Entities potentially affected by this action are those operations that chemically pulp wood fiber using kraft or soda methods to produce bleached papergrade pulp, paperboard, coarse paper, tissue paper, fine paper, and/or paperboard; and those operations that chemically pulp wood fiber using papergrade sulfite methods to produce pulp and/or paper.

Title: Minimum Monitoring Requirements for Direct and Indirect Discharging Mills in the Bleached Papergrade Kraft and Soda Subcategory and the Papergrade Sulfite Subcategory of the Pulp, Paper, and Paperboard Point Source Category (EPA ICR No. 1878.01)

Abstract: The Environmental Protection Agency (EPA) imposed minimum monitoring requirements on bleached papergrade kraft and soda and papergrade sulfite mills under 40 CFR part 430 as part of the effluent limitations guidelines and standards promulgated on April 15, 1998 (63 FR 18504). This final rule is often referred to as the “Cluster Rules.” The monitoring provisions, promulgated under the authorities of sections 301, 304, 307, 308, 402, and 501 of the Clean Water Act, require direct and indirect discharging bleached papergrade kraft and soda and papergrade sulfite mills (subparts B and E) to monitor their effluent for certain pollutants, namely adsorbable organic halides (AOX), 2,3,7,8-tetrachlorodibenzo-p-dioxin (TCDD), 2,3,7,8-tetrachlorodibenzofuran (TCDF), chloroform, and 12 chlorinated phenolics at specified frequencies. These minimum monitoring requirements are in addition to the current monitoring requirements specified in 40 CFR part 122 for direct discharging mills (under the existing National Pollutant Discharge Elimination System (NPDES)/Sewage Sludge Monitoring Discharge Monitoring Report (DMR) ICR (OMB 2040-0004)), and in 40 CFR part 403 for indirect dischargers (under the National Pretreatment Program ICR (OMB 2040-0009)). Under NPDES program regulations, codified at 40 CFR parts 122 through 125, permitted municipal and non-municipal point source dischargers are required to collect and analyze wastewater samples or have the analyses performed by an outside laboratory and report the results to the permitting authority (EPA or an authorized NPDES State) using Discharge Monitoring Reports (DMRs), a pre-printed form used to report pollutant discharge information. Under the National Pretreatment program, codified at 40 CFR part 403, industrial users subject to pretreatment standards are required to collect and analyze wastewater samples or have the analyses performed by an outside laboratory and report the results to the pretreatment control authority (EPA or a local or State authorized authority) using Periodic Compliance Reports (PCRs).

With approval of this ICR, the permitting and pretreatment control authority must require applicable facilities subject to subparts B or E to monitor certain pollutants at specified frequencies. See 40 CFR 430.02. Under 40 CFR 122.41(e)(4), the discharger must then report these monitoring results to the permitting or pretreatment control authority. EPA expects that the permitting or pretreatment control authority will use the data from these forms to assess permittee compliance and, for mills enrolled in the Voluntary Advanced Technology Incentives Program (VATIP), to assess the mill's progress towards achieving the ultimate VATIP Tier limits beyond baseline Best Available Technology Economically Achievable (BAT).

It is the agency's intention for this ICR to cover the minimum monitoring requirements for direct discharging mills set forth in 40 CFR 430.02 until these requirements can be subsumed under the NPDES/Sewage Sludge Monitoring DMR ICR (OMB 2040-0004) and for indirect discharging mills until these requirements can be subsumed under the renewal of the National Pretreatment Program ICR (OMB 2040-0009). This ICR serves to clarify and augment the burden already identified in the National Pretreatment Program ICR incurred by indirect dischargers for compliance with minimum monitoring requirements.

These additional minimum monitoring requirements and corresponding additional reporting requirements are necessary to demonstrate compliance with the effluent limitations guidelines and standards promulgated at 40 CFR part 430, subparts B and E, particularly considering the degree of change that is expected to occur to pulping and bleaching processes as the Cluster Rules are implemented. For those mills that choose to enroll in the VATIP, EPA has established alternative monitoring requirements that ultimately reduce the monitoring burden when mills have achieved baseline BAT levels and have committed to reduce pollutant levels beyond baseline. See 40 CFR 430.02(c)-(e).

In establishing the minimum monitoring frequencies for the regulated pollutants, EPA has struck a balance between: (1) The cost of the monitoring regimen, and (2) the need to ensure that sufficient data are consistently available to permitting and pretreatment control authorities to provide an adequate basis to verify compliance with the effluent limitations and standards. Permitting and pretreatment control authorities need to have an adequate basis to verify compliance with the effluent limitations and standards, given the environmental significance of these pollutants that are highly toxic and bioaccumulative, and the generation of which is variable as available data clearly demonstrate. This monitoring regimen also ensures sufficient data are available to the mill so that the mill may quickly become aware of and react to releases that may be harmful to the environment. EPA does not anticipate that mills will be required to submit any confidential business information (CBI) or trade secrets as part of this ICR.

An agency may not conduct or sponsor, and a person is not required to respond to, a collection of information unless it displays a currently valid OMB control number. The OMB control numbers for EPA's regulations are listed in 40 CFR part 9 and 48 CFR chapter 15.

EPA would like to solicit comments to: (i) evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information and transmit or otherwise disclose the information.

The following paragraphs summarize the burden estimate imposed on respondents, including mills, local governments, States, and EPA. Supporting details can be found in section 6 and appendix A in the supporting statement for this ICR.

(a) Industry Burden Estimates

The following discussion describes the information collection requirements associated with the monitoring requirements promulgated at 40 CFR 430.02. These minimum monitoring requirements, in turn, would trigger additional reporting and recordkeeping obligations under 40 CFR part 122. These requirements apply to approximately 94 direct and indirect discharging papergrade kraft, soda, and sulfite mills. EPA estimated the total burden and costs associated with sampling, reporting and recordkeeping required by 40 CFR 430.02, including capital costs for installing bleach plant effluent flow monitoring stations and O&M (analytical) costs for mills to send their collected samples to outside laboratories for analysis. These estimates do not reflect the reduced burden associated with the VATIP program, because mills are not required to enroll in the program; EPA thus assumes for this ICR that all mills will be subject to the baseline minimum monitoring frequencies.

Minimum monitoring requirements for non-Totally Chlorine Free (TCF) bleaching fiber lines are as follows:

AOX—daily

chloroform—weekly

TCDD/TCDF—monthly

12 chlorinated phenolics—monthly

EPA did not specify limitations for exclusively TCF facilities, see 40 CFR 430.24(a)(2), and thus did not specify minimum monitoring frequencies for those dischargers. Mills enrolled in the Voluntary Advanced Technology Incentives Program (VATIP) may be eligible for reduced minimum monitoring frequencies. See 40 CFR 430.02(c),(d), and (e).

The duration of the minimum monitoring requirements for non-Totally Chlorine Free (TCF) direct discharging facilities is five years, commencing on the date the applicable limitations or standards are first included in the discharger's NPDES permit.

Under current NPDES permitting regulations, permittees must report all monitoring results to the permitting authority using DMRs. Submission of such reports shall be at the frequency established by the NPDES permit authority not less than once per year. See 40 CFR 122.44(i)(2). For the purposes of this ICR, EPA assumed that DMRs are submitted monthly to the NPDES permit authority in order to express the full potential reporting and recordkeeping costs associated with the minimum monitoring requirements for subparts B and E mills. The permittee is required to retain ongoing monitoring records and reports for at least three years. See 40 CFR 122.41(j)(2).

The duration of the minimum monitoring requirements for non-Totally Chlorine Free (TCF) indirect discharging facilities is until April 17, 2006.

Under current general pretreatment regulations, permittees must report all monitoring results to the permitting authority using PCRs. Submission of such reports shall be at the frequency established by the pretreatment control authority not less than twice per year. See 40 CFR 122.44(i)(2) and section 430.12(b),(d),(e),(g). For the purposes of this ICR, EPA assumed that PCRs are submitted monthly to the pretreatment control authority in order to express the full potential reporting and recordkeeping costs associated with the minimum monitoring requirements for subpart B and E mills. The permittee is required to retain ongoing monitoring records and reports for at least three years. See 40 CFR 403.12(o)(2).

Based on the assumptions listed above, EPA estimates of the total annual respondent burden associated with these monitoring, reporting and recordkeeping requirements are summarized in Table 1.

Table 1.—Summary of annual Burden Estimate for Compliance Monitoring by Affected Subpart B and E Mills
[approximaately 94 mills]
Burden and costs | Labor (hurs) | Cost (2000 dollars)
Sampling | 35,830 | 1,035,850
Analytica Cost |  | 12,587,240
Reporting | 773 | 44,000
Recordkeeping | 255 | 14,520
Capital Costs (Annualized) |  | 6,414,910
Total | 36,858 | 20,096,520

On a per-facility basis, mills are anticipated to incur an average of 400 hours per year for sampling, reporting and recordkeeping for monthly DMRs or PCRs for an average of annual cost of $213,790, including capital and O&M costs.

(b) State and Agency Burden Estimates

NPDES-authorized States are estimated to incur 533 burden hours for processing and analyzing monitoring data captured in submitted DMRs and for follow-up activities associated with 20 percent of all DMRs submitted. This hourly burden translates to an estimated $18,010 annually for these activities.

Local pretreatment control authorities are estimated to incur 72 burden hours for processing and analyzing monitoring data captured in submitted PCRs and for follow-up activities associated with 20 percent of all PCRs submitted. This hourly burden translates to an estimated $2,220 annually for these activities. State pretreatment approval authorities are estimated to incur 24 burden hours per year for support of local follow-up activities at a cost of $810.

EPA burden is estimated to be 286 hours per year for support of State follow-up activities as well as acting as the NPDES permit authority for 10 mills where the States are not authorized NPDES authorities at a cost of $9,660. Table 2 summarizes the burden estimates for respondents (industry and State governments) and the agency.

Table 2.—Summary of Estimated Annual Respondent and Agency Burden and Costs
(2000 Dollars)
Category | Number of respondents | Total hours per year | Total labor cost per year | Total annualized capital costs | Total annual O&M costs (analytical costs)
Respondents—Subpart B and E mills | 94 | 36,858 | $1,094,370 | $6,414,910 | $12,587,240
Respondents—State NPDES authorities | 33 | 629 | 21,040 | 0 | 0
Total Respondents | 127 | 37,487 | 1,115,410 | 6,414,910 | 12,587,240
Agency |  | 286 | 9,660 | 0 | 0

Dated: March 2, 2001
Geoffrey H. Grubbs, Director,
Office of Science and Technology.

[FR Doc. 01-6707 Filed 3-16-01; 8:45 am]

BILLING CODE 6560-50-P